DEPARTMENT OF AGRICULTURE

Animal and Plant Health Inspection Service

[Docket No. 04-085-5]

Contact Information for Alfalfa Producers To Determine Proximity to Roundup Ready Alfalfa Fields

AGENCY: Animal and Plant Health Inspection Service, USDA.

ACTION: Notice.

SUMMARY: We are advising the public that on August 6, 2007, the Animal and Plant Health Inspection Service will begin operating a toll-free telephone number for use by conventional and organic alfalfa farmers and prospective alfalfa farmers to inquire about the proximity of their farms or fields to Roundup Ready alfalfa. This action is being taken in compliance with a judgment and order by the United States District Court for the Northern District of California in Geertson Seed Farms, et al. v. Mike Johanns, Secretary of the United States Department of Agriculture, et al., Case No. 06-01075.

FOR FURTHER INFORMATION CONTACT: The toll-free number for alfalfa farmers to request field locations is (866) 724-6408. For all other information, contact Mr. Thomas Sim, Biotechnology Regulatory Services, APHIS, 4700 River Road Unit 147, Riverdale, MD 20737-1236; (301) 734-7324.

SUPPLEMENTARY INFORMATION:

Background

The regulations in 7 CFR part 340, “Introduction of Organisms and Products Altered or Produced Through Genetic Engineering Which Are Plant Pests or Which There Is Reason to Believe Are Plant Pests,” regulate, among other things, the introduction (importation, interstate movement, or release into the environment) of organisms and products altered or produced through genetic engineering that are plant pests or that there is reason to believe are plant pests.

In a notice published in the Federal Register on June 27, 2005 (70 FR 36917-36919, Docket No. 04-085-3), the Animal and Plant Health Inspection Service (APHIS), United States Department of Agriculture, advised the public of its determination, effective June 14, 2005, that the Monsanto/Forage Genetics International (FGI) alfalfa events J101 and J163 were no longer considered regulated articles under our regulations governing the introduction of certain genetically engineered organisms.

On February 13, 2007, the United States District Court for the Northern District of California issued a ruling in a lawsuit filed by several nonprofit organizations and alfalfa growers challenging APHIS' decision to deregulate alfalfa events J101 and J163 (referred to in the lawsuit as Roundup Ready alfalfa). The lawsuit alleged violations of the National Environmental Policy Act (NEPA), the Endangered Species Act, and the Plant Protection Act. The court ruled that the deregulation may have significant environmental impacts that require the preparation of an environmental impact statement (EIS), and that APHIS violated NEPA by not preparing an EIS.

Subsequently, the court issued a preliminary injunction order in the case on March 12, 2007, a permanent injunction and judgment on May 3, 2007, and an amended judgment on July 23, 2007. Among other things, these orders prohibited all sales of Roundup Ready alfalfa seed and prohibited all future planting of Roundup Ready alfalfa beginning March 30, 2007. The May 3, 2007, injunction ordered defendant-interveners Monsanto and FGI to provide APHIS with GPS and plat locations of all Roundup Ready alfalfa production acreage, which APHIS in turn would be required to post on a Government Web site. However, the July 23, 2007, amended judgment altered that requirement and instead ordered that APHIS disclose Roundup Ready alfalfa locations to farmers and prospective farmers only, under a three-part disclosure mechanism. First, APHIS is to disclose to farmers the counties in 17 Western States in which Roundup Ready seed or hay fields are located; second, APHIS is to specify, both on its Web site and in a Federal Register notice, the toll-free number that farmers in or adjacent to those identified counties may use to request the distances from the nearest Roundup Ready alfalfa fields to their crops; and third, APHIS is to respond to requests from farmers through the toll-free number for the distances of up to five Roundup Ready alfalfa fields nearest to the requesting farmer's property within the county or adjacent county identified.

We are complying with the first condition, the disclosure of counties in 17 Western States in which Roundup Ready seed and hay fields are located, by providing a link on APHIS' Biotechnology Regulatory Services (BRS) homepage at http://www.aphis.usda.gov/biotechnology/brs_main.shtml. The listing, which also includes information that is available about Roundup Ready alfalfa fields in States other than the 17 Western States, can be accessed by a link at the Web site's bottom right side that reads “I want to learn about the status of Roundup Ready alfalfa.”

In accordance with the second and third conditions of the court's order, on August 6, 2007, APHIS will begin operating a toll-free telephone number for use by alfalfa farmers and prospective alfalfa farmers to inquire about the proximity of their fields to Roundup Ready alfalfa. The number is (866) 724-6408. An operator will be available from 9 a.m. to 5 p.m. eastern time, Monday through Friday (except holidays).

Callers must comply with the following two requirements. First, they must be a person who either currently plants conventional or organic alfalfa or plans to do so. Second, they must be ready to provide the operator with either the latitude and longitude coordinates or the mailing address of their farm or field where the alfalfa is or will be grown. Other types of location information cannot be accepted, and only one location from each caller per phone call will be accepted.

Callers will be provided the distance from the property they identify to the nearest five fields in the same or adjacent counties that have been planted with Roundup Ready seed. The locations of Roundup Ready alfalfa fields were provided to APHIS by dealers, distributors, and producers of seed under the same court orders referenced above. APHIS cannot verify the accuracy of the location information provided by industry. Currently, APHIS has only obtained complete location information for 17 Western States ¹ where Roundup Ready seed or hay is grown. Conventional and organic alfalfa farmers in States other than the 17 Western States should not call the toll-free number until after APHIS has received complete location information from the industry. Please check the APHIS/BRS Web site after September 27, 2007, for a time line of when APHIS believes it will have complete location information for the other States.

¹ These 17 Western States are Arizona, California, Colorado, Idaho, Kansas, Montana, Nebraska, Nevada, New Mexico, North Dakota, Oklahoma, Oregon, South Dakota, Texas, Utah, Washington, and Wyoming.

The toll-free telephone number is for field location information only. For additional information on the Roundup Ready issue, please visit the following Web site: http://www.aphis.usda.gov/biotechnology/alfalfa.shtml.

Done in Washington, DC, this 30th day of July 2007.
Elizabeth E. Gaston,
Acting Administrator, Animal and Plant Health Inspection Service.

[FR Doc. E7-15120 Filed 8-2-07; 8:45 am]

BILLING CODE 3410-34-P